ENVIRONMENTAL PROTECTION AGENCY

[FRL-7475-4]

New Jersey State Prohibition on Marine Discharges of Vessel Sewage; Receipt of Petition and Tentative Determination

Notice is hereby given that a petition dated March 27, 2002 was received from the State of New Jersey requesting a determination by the Regional Administrator, Environmental Protection Agency (EPA), pursuant to section 312(f) of Public Law 92-500, as amended by Public Law 95-217 and Public Law 100-4 (the Clean Water Act), that adequate facilities for the safe and sanitary removal and treatment of sewage from all vessels are reasonably available for the waters of the Barnegat Bay, Ocean County, New Jersey. This petition was made by the New Jersey Department of Environmental Protection (NJDEP) in cooperation with the Barnegat Bay Estuary Program, New Jersey Marine Sciences Consortium, Ocean County Planning Board and Ocean County Vacation and Technical School. Upon receipt of an affirmative determination in response to this petition, NJDEP would completely prohibit the discharge of sewage, whether treated or not, from any vessel in the Barnegat Bay Complex in accordance with section 312(f)(3) of the Clean Water Act and 40 CFR 140.4(a).

Barnegat Bay is a shallow, lagoon-type estuary characteristic of a back bay system of a barrier island coastline. Barnegat Bay is bordered by two barrier islands, Island Beach and Long Beach Island. These islands are approximately 64 km in total length, are oriented north-south and separate the bay from the Atlantic Ocean. The No Discharge Zone (NDZ) will include Barnegat Bay Complex and its navigable tributaries. The boundary lines have been defined for the Point Pleasant Canal, Barnegat Inlet and Egg Harbor Inlet as lines between the following points:

Point Pleasant Canal—

40 04.030 N, 74 03.281 W;

40 04.068 N, 74 03.278 W

Barnegat Inlet—

Inside South Bouy, 39 45.457 N, 74 05.519 W;

Inside North Bouy, 39 45.525 N, 74 05.519 W

Egg Harbor Inlet—

39 30.521 N, 74 18.389 W;

39 30.476 N, 74 17.322 W

Barnegat Bay provides recreational, economic, and aesthetic benefits to the coastal users of New Jersey. The estuary is productive for shellfish harvesting, recreational activities such as fishing, kayaking, swimming and boating. The bay supports hard clam harvest and blue crab landings. NJDEP Bureau of Marine Water Classification and Analysis has divided the State into 36 Shellfish growing water reaches. The bay complex is identified as Reaches 7 through 13 which are as follows:

Reach 7—Barnegat Bay (Bay Head to Seaweed Point)

Reach 8—Barnegat Bay (Seaweed Point to Mathis Bridge)

Reach 9—Toms River

Reach 10—Barnegat Bay (Mathis Bridge to Forked River)

Reach 11—Barnegat Bay (Forked River to Main Point)

Reach 12—Manahawkin/Little Egg Harbor Bay (Main Point to Long Point)

Reach 13—Long Point to Beach Haven Inlet

Information submitted by the State of New Jersey indicate that there are sixty-six existing pumpout facilities and two pumpout boats available to service vessels throughout the Barnegat Bay Complex. The typical facility is available to the boating community from April through November with hours of operation from 8 am until 5 pm, seven days a week. Seven facilities are available all year. Sixty-three of the existing pumpout facilities are connected to municipal sewage lines. Sewage from these facilities is routed to the Ocean County Municipal Utilities Authority where it undergoes secondary treatment. Three pumpout facilities (Ocean Gate Yacht Basin, Ocean Beach South and Causeway Boat Rental and Marina) store their waste in holding tanks for disposal by a septic waste hauler.

According to the State's petition, the vessel population for the waters of Barnegat Bay Complex is approximately 15,587 vessels which are docked at private residences and 12,900 vessels docked or moored at marinas or yacht clubs. The total vessel population is 28,487. The ratio of boats to pumpout facilities has been based on the total number of vessels which could be expected. With sixty-six shore-side pumpout facilities and two pumpout vessel available to boaters, the ratio of docked or moored boats (including transients) is approximately 420 vessels per pumpout. Standard guidelines refer to acceptable ratios falling in the range of 300 to 600 vessels per pumpout. If the EPA calculation is employed (as listed in the guidance manual entitled, “Protecting Coastal Waters from Vessel and Marina Discharges: A Guide for State and Local Officials—April 1994”), it estimates that twenty-four pumpouts are needed to provide adequate facilities.

Commercial vessels which operate in and around the harbor are engaged in fishing activities exclusively. Most of the operators will use the facilities where they dock or obtain fuel. The larger fishing vessels do not operate in the bay, but dock in the vicinity of Barnegat Light and fish the Atlantic Ocean.

The EPA hereby makes a tentative affirmative determination that adequate facilities for the safe and sanitary removal and treatment of sewage from all vessels are reasonably available for the Barnegat Bay Complex in Ocean County, New Jersey. A final determination on this matter will be made following the 30-day period for public comment regarding a New Jersey State prohibition of any sewage discharges from marine vessels in the Barnegat Bay Complex.

Comments and views regarding this petition and EPA's tentative determination may be filed on or before May 1, 2003. Comments or requests for information or copies of the applicant's petition should be addressed to Walter E. Andrews, U.S. Environmental Protection Agency, Region 2, Water Programs Branch, 290 Broadway, 24th Floor, New York, New York 10007-1866. Telephone: (212) 637-3880.

Dated: March 14, 2003.
William J. Muszynski,
Acting Regional Administrator, Region 2.

[FR Doc. 03-7799 Filed 3-31-03; 8:45 am]

BILLING CODE 6560-50-P